DEPARTMENT OF ENERGY

Western Area Power Administration

Sacramento Area Voltage Support Project (DOE/EIS-0323)

AGENCY: Western Area Power Administration, DOE.

ACTION: Record of Decision.

SUMMARY: Based upon the analysis and information contained in the Sacramento Area Voltage Support (SVS) Environmental Impact Statement (EIS), the Western Area Power Administration (Western) has decided that, should the SVS project proceed, it should follow the configuration of the preferred alternative described in the SVS Final EIS. This alternative is identified as Proposed Action Option B and would consist of (1) reconductoring a double-circuit, 230-kilovolt (kV) transmission line from Elverta Substation to Tracy Substation, (2) constructing a new double-circuit, 230-kV transmission line from O'Banion Substation to Elverta Substation, and (3) realigning the transmission line near Pleasant Grove Cemetery between O'Banion and Elverta substations and Option B of the Cottonwood-Roseville single-circuit, 230-kV transmission line. In making this decision, Western evaluated (1) alternatives to the proposed project, and (2) alternatives that cover the reasonable range of options to complete enhancements to the 230-kV power transmission system between O'Banion and Tracy substations. These transmission enhancements and additions are necessary to maintain transmission security and reliability. Of the alternatives evaluated, Proposed Action Option B provides the highest degree of security and reliability for voltage support while having relatively few environmental impacts.

FOR FURTHER INFORMATION CONTACT: Ms. Loreen McMahon, Environmental Project Manager, Sierra Nevada Customer Service Region, Western Area Power Administration, 114 Parkshore Drive, Folsom, CA 95630-4710, telephone (916) 353-4460, e-mail mcmahon@wapa.gov. For information about the Department of Energy (DOE) National Environmental Policy Act (NEPA) process, contact Ms. Carol M. Borgstrom, Director, NEPA Policy and Compliance, EH-42, U.S. Department of Energy, 1000 Independence Avenue, SW., Washington, DC 20585, telephone (202) 586-4600 or (800) 472-2756.

SUPPLEMENTARY INFORMATION: Population growth and development in the Sacramento, California, area has steadily increased electricity demand. The need for generation interconnections and operational flexibility in using existing electrical transmission facilities has increased. These factors combine to reduce security and reliability of the interconnected transmission system, which includes Western's Federal transmission system. While Western is not responsible for the load growth, transmission lines in the Sacramento area have reached their maximum transfer limits in serving existing needs. New transmission and transmission upgrades are needed to mitigate transmission line overload, reduce the frequency of automatic generation and load curtailment during the summer peak load periods, and help maintain reliability of the interconnected system operation.

Power system studies conducted by the Sacramento Area Transmission Planning Group and the River City Transmission Group concluded that transmission additions in the Sacramento area are needed to alleviate voltage sag and ensure power system reliability. The EIS analyzed environmental impacts of alternatives identified to improve electric system reliability and provide voltage support for the Sacramento area.

Alternatives

Western identified five broad alternative categories (new power generation, demand-side management (DSM), distributed generation, new transmission, and transmission upgrades) in its Notice of Intent (65 FR 48496) to prepare this EIS. Between September 12 through September 21, 2000, Western conducted a series of four scoping meetings in Lodi, Marysville, and Folsom, California. Public scoping comments were collected from August 8 through October 2, 2000. Western held two public workshops (March and September 2001) to address public comments on the broad selection of alternatives under consideration.

The results of public scoping meetings, workshops, meetings with agencies, and transmission system studies contributed to identifying the alternatives carried forward for detailed review. Alternatives eliminated from detailed review included new power generation, DSM, and distributed generation. New power generation and distributed generation alternatives will not solve short-term voltage support and reliability issues. DSM would be more applicable to the distribution of electricity, and the local utilities have implemented programs to decrease electrical loads during peak-use hours. Western believes that in the short term, imposing regulations of this type would not solve the reliability issues.

The alternatives carried forward for detailed analysis included new transmission and transmission upgrades. To minimize environmental impacts, Western incorporated standard Environmental Protection Measures (EPM) into the project description for the Proposed Action and all alternatives. Detailed evaluation of the Proposed Action and alternatives in the Draft EIS considered the three types of project activities below.

1. Reconductoring would consist of replacing the existing transmission line conductors (wires) with higher capacity conductors. In general, the existing rights-of-way (ROW) would be used, although some new structures may be needed.

2. New construction of transmission lines would include designing and building new structures and installing new conductors. New construction would occur on existing ROW where possible or require new ROW in parallel with existing ROW.

3. Realignment would include route deviations from Western's existing transmission lines.

The Notice of Availability (NOA) for the Draft EIS was published in the Federal Register on November 15, 2002, followed by a 45-day public comment period. During the public comment period, three public hearings were held: December 9, 2002, in Lodi, California; December 11, 2002, in Folsom, California; and December 12, 2002, in Marysville, California. Comments on the Draft EIS were made at the public hearings and were sent to Western via mail, telephone, and e-mail. A total of 117 comments were received from 28 individuals, companies, and government agencies.

Comments to the Draft EIS prompted a minor modification to avoid residential property. This modification affects two of the alternatives, resulting in adding two alternatives as described in the Final EIS. The description and impacts of the modification are identical for both the Proposed Action and Alternative 2. The title description “Option A” was added to the original project description of the Proposed Action and Alternative 2. The title description “Option B” was added to the modified alignments.

The Final EIS is an abbreviated version, which references the Draft EIS in its entirety. The Final EIS identifies the Preferred Alternative and provides corrections to the Draft EIS, additional information not included in the Draft EIS, public comments, Western's responses to those comments, and analyses of the modification applicable to the Proposed Action and Alternative 2. Option A and Option B of the Proposed Action, as well as the other alternatives, are described below.

Proposed Action

Option A: This is the original alignment of the Proposed Action. It would consist of (1) Reconductoring 73.2 miles of double-circuit, 230-kV transmission line from Elverta Substation to Tracy Substation, (2) constructing 26.6 miles of new double-circuit, 230-kV transmission line from O'Banion Substation to Elverta Substation, and (3) realigning the transmission line near Pleasant Grove Cemetery, between O'Banion and Elverta substations and 5 miles of the Cottonwood-Roseville single-circuit, 230-kV transmission line north of Elverta Substation.

Option B: This is the modified alignment of the Proposed Action. It would consist of (1) Reconductoring 73.2 miles of double-circuit, 230-kV transmission line from Elverta Substation to Tracy Substation, (2) constructing 26.6 miles of new double-circuit, 230-kV transmission line from O'Banion Substation to Elverta Substation, and (3) realigning the transmission line near Pleasant Grove Cemetery, between O'Banion and Elverta substations, and 6.1 miles of the Cottonwood-Roseville single-circuit, 230-kV transmission line. This modified realignment of the Cottonwood-Roseville line would extend about 2 miles east of the original alignment and then traverse south.

Alternative 1

Reconductoring Transmission Lines between O'Banion and Tracy substations would consist of reconductoring 99.8 miles of the existing double-circuit and single-circuit, 230-kV transmission lines from O'Banion Substation to Tracy Substation.

Alternative 2

Option A: New Transmission from O'Banion Substation to Elverta Substation is the original alignment of Alternative 2. It would consist of (1) constructing 26.6 miles of new double-circuit, 230-kV transmission line from O'Banion Substation to Elverta Substation, and (2) realigning the transmission line near Pleasant Grove Cemetery and 5 miles of the Cottonwood-Roseville single-circuit, 230-kV transmission line north of Elverta Substation.

Option B: New Transmission from O'Banion Substation to Elverta Substation is the modified alignment of Alternative 2. It would consist of (1) constructing 26.6 miles of new double-circuit, 230-kV transmission line from O'Banion Substation to Elverta Substation, and (2) realigning the transmission line near Pleasant Grove Cemetery and 6.1 miles of the Cottonwood-Roseville single-circuit, 230-kV transmission line. This modified realignment of the Cottonwood-Roseville line would extend about 2 miles east of the original alignment then traverse south.

Alternative 3

New Transmission from Elk Grove Substation to Tracy Substation would consist of constructing 46.2 miles of new double-circuit, 230-kV transmission line from Elk Grove Substation to Tracy Substation.

No Action Alternative

The No Action Alternative would involve unchanged operation of the existing transmission line system. Western would not develop or build additional transmission lines or substation facilities in the study area relative to voltage support.

The NOA of the Final EIS was published in the Federal Register on September 19, 2003. Western publicized the Notice of Intent, public scoping meetings, public hearings, and availability of the Draft EIS in local newspapers. Western will also publish the availability of this Record of Decision (ROD) in local newspapers.

Decision

Western selected Proposed Action Option B as its action, since it provides the maximum load-serving capability and reduces the need for automatic generation and load curtailment during the summer peak load periods to the greatest degree. This action best fulfills the agency's statutory mission and responsibilities under the Central Valley Project Act authority and it has relatively low environmental impacts.

Through analysis in the EIS, Western determined two of the alternatives were environmentally preferable. The No Action Alternative was determined to be the environmentally preferred alternative with the least environmental impact. It would not, however, meet the purpose and need. Western determined that Alternative 1 is the environmentally preferred action alternative due to fewer environmental impacts on land use, visual resources, and water resources compared to the Proposed Action Option B and the other action alternatives. However, none of the action alternatives, including Alternative 1, would avoid significant air impacts. The environmentally preferred action alternative was not selected because its fewer environmental impacts do not outweigh Western's need to provide maximum load-serving capability that is provided with the selected alternative.

Proposed Action Option B

Project financing for construction is uncertain. With this decision, Western is adopting the EPMs outlined in the EIS. Once funding is secured, Western would complete an air quality analysis to predict potential emissions, conduct biological and cultural resource surveys as necessary, complete a biological assessment and Section 7 consultation with the U.S. Fish and Wildlife Service and the National Marine Fisheries Service, and consult with the State Historic Preservation Office on cultural resources. Stipulations identified through these analyses and consultations would be developed based on agreements reached between Western and the regulatory agencies. Western would develop a mitigation action plan (MAP) for such stipulations to ensure all practical means of avoiding environmental harm. Western would make the MAP available to the public.

This ROD meets the requirements of NEPA as well as the Council on Environmental Quality and DOE's NEPA implementing regulations. Additional analyses results may affect this decision and result in subsequent analysis or decisions. The public will be notified of any additional activities necessary to meet Western's NEPA and other public involvement requirements.

Dated: December 29, 2003.
Michael S. Hacskaylo,
Administrator.

[FR Doc. 04-571 Filed 1-9-04; 8:45 am]

BILLING CODE 6450-01-P